DEPARTMENT OF ENERGY

Federal Energy Regulatory Commission

Notice of Technical Conference

| Docket No.
Priority Rights to New Participant-Funded Transmission | AD11-11-000
Alta Wind I, LLC | EL10-62-000
Alta Wind II, LLC |
Alta Wind III, LLC |
Alta Wind IV, LLC |
Alta Wind V, LLC |
Alta Wind VI, LLC |
Alta Wind VII, LLC |
Alta Wind VIII, LLC |
Alta Windpower Development, LLC |
TGP Development Company, LLC |
Puget Sound Energy, Inc | EL10-72-001
Terra-Gen Dixie Valley, LLC, TGP Dixie Development Company, LLC, and New York Canyon, LLC | EL10-29-002
Green Borders Geothermal, LLC v. Terra-Gen Dixie Valley, LLC | EL10-36-002
Terra-Gen Dixie Valley, LLC | ER11-2127-001
Northern Pass Transmission, LLC | ER11-2377-000
Milford Wind Corridor Phase I, LLC | RC11-2-000
Cedar Creek Wind Energy, LLC | RC11-1-000

Take notice that Commission Staff will convene a technical conference in the above-referenced proceeding on Tuesday, March 15, 2011, from 9:30 a.m. to 4 p.m. (EST), in the Commission Meeting Room at the offices of the Federal Energy Regulatory Commission, 888 First Street, NE., Washington, DC 20426. Members of the Commission may attend the conference which will also be open for the public to attend. Advance registration is not required.

Those interested in speaking at the conference should notify the Commission by close of business February 28, 2011 by completing an online form describing the topics that they wish to address: https://www.ferc.gov/whats-new/registration/rights-03-15-speaker-form.asp. Due to time constraints, we may not be able to accommodate all those interested in speaking. The Commission will issue a subsequent notice that will provide the detailed agenda, including panel speakers.

The purpose of the conference is to consider issues related to the ownership of and priority access rights to new transmission projects. The electric industry has evolved since Order No. 888 was adopted. New business models in addition to traditional vertically-integrated utilities have emerged for developing, owning, and operating electric transmission infrastructure. Several of these models have been the subject of petitions before the Commission. For example, one such model entails the owner of the project seeking priority access to the transmission capacity it develops. The Commission would like to explore issues related to these new transmission infrastructure ownership models. Conference participants should be prepared to address the topic in at least one of two contexts: independent and/or merchant transmission,¹ and generator lead lines.²

¹ See, e.g., Chinook Power Transmission, LLC, 126 FERC ¶ 61,134 (2009).

² See, e.g., Milford Wind Corridor, LLC, 129 FERC ¶ 61,149 (2009).

With respect to independent and/or merchant transmission, participants should be prepared to address how the economics of a proposed project are affected by the Commission's current affiliate rules and pricing structures (e.g., cost-based or negotiated rates). Participants also should be prepared to address: the need for and appropriate application of priority access mechanisms, such as open seasons and anchor shipper/tenant arrangements; how these can be designed consistent with the Commission's open access principles; and whether alternative mechanisms should be considered.

With respect to generator lead lines, participants should be prepared to address the nature of these lines and the application of the Commission's open access policies as they relate to these lines.

In either context, participants should be prepared to address the Commission's policies with respect to the treatment of affiliates, the implications of various project ownership structures, and the criteria employed for justifying priority allocation of capacity in new or expanded transmission facilities.

Further, participants should be prepared to identify and discuss what an appropriate balance is between the Commission's policies on open access and non-discriminatory treatment, on the one hand, and the needs of developers of the facilities on the other hand. Participants are encouraged to come prepared to propose and discuss regulatory alternatives that are consistent with the Commission's statutory responsibility to ensure that rates, terms, and conditions of service are just and reasonable and not unduly discriminatory.

The discussions at the conference may address matters at issue in the following Commission proceedings that are either pending or within their rehearing period:

Alta Wind I, LLC et al., Docket No. EL10-62-000;

Puget Sound Energy, Inc.; EL10-72-001;

Terra-Gen Dixie Valley, LLC, Docket No. EL10-29-002;

Green Borders Geothermal, LLC v. Terra-Gen Dixie Valley, LLC, Docket No. EL10-36-002;

Terra-Gen Dixie Valley, LLC, Docket No. ER11-2127-001;

Northern Pass Transmission, LLC, Docket No. ER11-2377-000;

Milford Wind Corridor Phase I, LLC, Docket No. RC11-2-000;

Cedar Creek Wind Energy, LLC, Docket No. RC11-1-000.

This conference will be transcribed. Transcripts will be available immediately for a fee from Ace Reporting Company (202-347-3700 or 1-800-336-6646). A free Webcast of the technical conference in this proceeding is also available. Anyone with Internet access interested in viewing this conference can do so by navigating to www.ferc.gov's Calendar of Events and locating this event in the Calendar. The event will contain a link to its Webcast. The Capitol Connection provides technical support for the Webcasts and offers the option of listening to the conferences via phone-bridge for a fee. If you have any questions, visit http://www.CapitolConnection.org or call (703) 993-3100.

FERC conferences are accessible under section 508 of the Rehabilitation Act of 1973. For accessibility accommodations please send an e-mail to accessibility@ferc.gov or call toll free (866) 208-3372 (voice) or (202) 502-8659 (TTY), or send a fax to (202) 208-2106 with the requested accommodations.

For further information please contact Becky Robinson at (202) 502-8868 or Becky.Robinson@ferc.gov; or Pierson Stoecklein at (202) 502-6372 or Pierson.Stoecklein@ferc.gov.

Dated: February 22, 2011.
Kimberly D. Bose,
Secretary.

[FR Doc. 2011-4416 Filed 2-28-11; 8:45 am]

BILLING CODE 6717-01-P